DEPARTMENT OF DEFENSE

48 CFR Part 225

[DFARS Case 2001-D019]

Defense Federal Acquisition Regulation Supplement; Memorandum of Understanding—Switzerland

AGENCY: Department of Defense (DoD).

ACTION: Final rule.

SUMMARY: DoD has issued a final rule amending the Defense Federal Acquisition Regulation Supplement (DFARS) to reflect a determination of the Deputy Secretary of Defense that it is inconsistent with the public interest to apply the restrictions of the Buy American Act to the acquisition of defense equipment produced or manufactured in Switzerland.

EFFECTIVE DATE: January 29, 2002.

FOR FURTHER INFORMATION CONTACT: Ms. Amy Williams, Defense Acquisition Regulations Council, OUSD(AT&L)DP(DAR), IMD 3C132, 3062 Defense Pentagon, Washington, DC 20301-3062. Telephone (703) 602-0288; facsimile (703) 602-0350. Please cite DFARS Case 2001-D019.

SUPPLEMENTARY INFORMATION:

A. Background

A memorandum of understanding between the Government of the Swiss Confederation and the Government of the United States provides for both governments to remove barriers to procurements of conventional defense supplies produced in the other country, and to accord to industries in the other country treatment no less favorable in relation to procurement than is accorded to industries of its own country. Therefore, DoD has determined that it is inconsistent with the public interest to apply the restrictions of the Buy American Act to the acquisition of defense equipment produced or manufactured in Switzerland. This final rule amends DFARS 225.872-1 to add Switzerland to the list of countries for which DoD has made such public interest determinations, and to remove Switzerland from the list of countries for which exemption from the Buy American Act is permitted only on a purchase-by-purchase basis.

This rule was not subject to Office of Management and Budget review under Executive Order 12866, dated September 30, 1993.

B. Regulatory Flexibility Act

This final rule will not have a significant effect beyond the internal operating procedures of DoD. Therefore, publication for public comment is not required. However, DoD will consider comments from small entities concerning the affected DFARS subpart in accordance with 5 U.S.C. 610. Such comments should cite DFARS Case 2001-D019.

C. Paperwork Reduction Act

The Paperwork Reduction Act does not apply because the rule does not impose any information collection requirements that require the approval of the Office of Management and Budget under 44 U.S.C. 3501, et seq.

List of Subjects in 48 CFR Part 225

Government procurement.

Michele P. Peterson,
Executive Editor, Defense Acquisition Regulations Council.

Therefore, 48 CFR Part 225 is amended as follows:

1. The authority citation for 48 CFR Part 225 continues to read as follows:

Authority: 41 U.S.C. 421 and 48 CFR Chapter 1.

PART 225—FOREIGN ACQUISITION

225.872-1 [Amended]

2. Section 225.872-1 is amended as follows:

a. In paragraph (a) by adding, in alphabetical order, “Switzerland” to the list of countries; and

b. In paragraph (b) by removing “Switzerland” from the list of countries.

[FR Doc. 02-2055 Filed 1-28-02; 8:45 am]

BILLING CODE 5001-08-U